DEPARTMENT OF ENERGY

Federal Energy Regulatory Commission

Combined Notice of Filings # 1

May 17, 2006.

Take notice that the Commission received the following electric rate filings.

Docket Numbers: ER01-1836-003.

Applicants: Community Energy, Inc.

Description: Community Energy, Inc submits a notice of Withdrawal of Rate Schedule FERC No. 1.

Filed Date: March 29, 2006.

Accession Number: 20060329-5083

Comment Date: 5 p.m. Eastern Time on Tuesday, May 30, 2006.

Docket Numbers: ER05-408-001.

Applicants: Otter Tail Power Company.

Description: Otter Tail Power Co submits revised grandfathered service agreements under Midwest Independent Transmission System Operator, Inc open access transmission & energy market tariff in compliance with FERC's April 6, 2006 order.

Filed Date: May 8, 2006.

Accession Number: 20060517-0044.

Comment Date: 5 p.m. Eastern Time on Tuesday, May 30, 2006.

Docket Numbers: ER05-515-005.

Applicants: Atlantic City Electric Company.

Description: Atlantic City Electric Co on behalf of itself and the City of Vineland, NJ submits fully executed Amended Interconnection Agreement and on May 12, 2006 submitted an errata to its agreement.

Filed Date: May 8, 2006 and May 12, 2006.

Accession Number: 20060511-0067.

Comment Date: 5 p.m. Eastern Time on Tuesday, May 30, 2006.

Docket Numbers: ER05-662-004.

Applicants: Midwest Independent Transmission System Operator, Inc.

Description: Midwest Independent Transmission System Operator, Inc submits a Large Generator Interconnection Agreement with Darlington Wind Farm, LLC and American Transmission Company.

Filed Date: May 8, 2006.

Accession Number: 20060517-0043.

Comment Date: 5 p.m. Eastern Time on Tuesday, May 30, 2006.

Docket Numbers: ER05-864-003.

Applicants: Midwest Independent Transmission System Operator, Inc.

Description: Midwest Independent Transmission System Operator, Inc submits a Large Generator Interconnection Agreement with Forward Energy, LLC and American Transmission Company.

Filed Date: May 8, 2006.

Accession Number: 20060517-0032.

Comment Date: 5 p.m. Eastern Time on Tuesday, May 30, 2006.

Docket Numbers: ER05-1362-001.

Applicants: Midwest Independent Transmission System Operator, Inc.

Description: Midwest Independent Transmission System Operator, Inc submits a supplemental filing in response to Commission's October 17, 2005 order regarding its Facilities Construction Agreement.

Filed Date: May 12, 2006.

Accession Number: 20060515-0244.

Comment Date: 5 p.m. Eastern Time on Friday, June 2, 2006.

Docket Numbers: ER06-187-002.

Applicants: Midwest Independent Transmission System Operator, Inc.

Description: Midwest Independent Transmission System Operator, Inc submits a Large Generator Interconnection Agreement with Valley View Transmission LLC and Great River Energy.

Filed Date: May 8, 2006.

Accession Number: 20060517-0041.

Comment Date: 5 p.m. Eastern Time on Tuesday, May 30, 2006.

Docket Numbers: ER06-668-001.

Applicants: Xcel Energy Services Inc.; Northern States Power Company

Description: Xcel Energy Services Inc on behalf of Northern States Power Company submits a compliance electric refund report in compliance with Commission order issued April 6, 2006.

Filed Date: May 10, 2006.

Accession Number: 20060510-5019.

Comment Date: 5 p.m. Eastern Time on Wednesday, May 31, 2006.

Docket Numbers: ER06-764-001.

Applicants: Premcor Refining Group Inc.

Description: Premcor Refining Group Inc submits an amendment to its application for market-based rate authorization and request for wavier and blanket authorization filed March 16, 2006.

Filed Date: May 9, 2006.

Accession Number: 20060517-0034.

Comment Date: 5 p.m. Eastern Time on Tuesday, May 30, 2006.

Docket Numbers: ER06-988-000.

Applicants: Southern Company Services, Inc.

Description: Southern Company Services, Inc agent for Alabama Power Co et al submits Revision 2 to the Agreement for Network Integration Transmission Service for Southern Co Generation & Energy Marketing.

Filed Date: May 10, 2006.

Accession Number: 20060517-0033.

Comment Date: 5 p.m. Eastern Time on Wednesday, May 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-7900 Filed 5-23-06; 8:45 am]

BILLING CODE 6717-01-P